DEPARTMENT OF LABOR

Employment and Training Administration

[TA-W-65,411]

Marmon Keystone Corporation; Butler, PA; Notice of Termination of Investigation

Pursuant to Section 221 of the Trade Act of 1974, as amended, an investigation was initiated on February 26, 2009 in response to a worker petition filed by United Steelworkers Union, Local 8042 on behalf of workers of Marmon Keystone Corporation, Butler, Pennsylvania.

The petitioner has requested that the petition be withdrawn. Consequently, the investigation has been terminated.

Signed at Washington, DC, this 16th day of March 2009.
Elliott S. Kushner,
Certifying Officer, Division of Trade Adjustment Assistance.

[FR Doc. E9-7147 Filed 3-30-09; 8:45 am]

BILLING CODE 4510-FN-P